DEPARTMENT OF TRANSPORTATION

Federal Aviation Administration

14 CFR Part 97

[Docket No. 31321 Amdt. No. 3913]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 23, 2020. The compliance date for each SIAP, associated Takeoff Minimums, and ODP is specified in the amendatory provisions.

The incorporation by reference of certain publications listed in the regulations is approved by the Director of the Federal Register as of July 23, 2020.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on July 10, 2020.
Robert C. Carty,
Executive Deputy Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 13 August 2020

Mobile, AL, Mobile Rgnl, NDB RWY 15, Amdt 3B, CANCELLED

Decatur, AR, Crystal Lake, VOR RWY 13, Amdt 9A, CANCELLED

North Little Rock, AR, North Little Rock Muni, VOR RWY 35, Amdt 1A, CANCELLED

Ozark, AR, Ozark-Franklin County, VOR/DME-A, Amdt 4A, CANCELLED

Pine Bluff, AR, Pine Bluff Rgnl Airport Grider Field, VOR RWY 36, Amdt 12B, CANCELLED

Chandler, AZ, Chandler Muni, NDB RWY 4R, Orig-C, CANCELLED

Scottsdale, AZ, Scottsdale, VOR-C, Amdt 2, CANCELLED

Tucson, AZ, Marana Regional, NDB RWY 12, Orig-A, CANCELLED

Arcata/Eureka, CA, California Redwood Coast-Humboldt County, VOR RWY 14, Amdt 1C, CANCELLED

Eureka, CA, Murray Field, VOR-A, Amdt 7B, CANCELLED

Firebaugh, CA, Firebaugh, VOR-A, Amdt 4, CANCELLED

Fortuna, CA, Rohnerville, VOR RWY 11, Amdt 3A, CANCELLED

Hayward, CA, Hayward Executive, VOR/DME-A, Amdt 3B, CANCELLED

Lodi, CA, Lodi, VOR-A, Amdt 4, CANCELLED

Los Banos, CA, Los Banos Muni, VOR RWY 32, Amdt 5A, CANCELLED

Marysville, CA, Yuba County, VOR RWY 32, Amdt 10H, CANCELLED

Merced, CA, Merced Rgnl/Macready Field, VOR RWY 30, Amdt 1, CANCELLED

Palo Alto, CA, Palo Alto, VOR RWY 31, Amdt 1, CANCELLED

Rio Vista, CA, Rio Vista Muni, VOR/DME-A, Amdt 2A, CANCELLED

Aspen, CO, Aspen-Pitkin Co/Sardy Field, VOR/DME-C, Amdt 5, CANCELLED

Craig, CO, Craig-Moffat, VOR RWY 7, Amdt 3, CANCELLED

Bridgeport, CT, Igor I Sikorsky Memorial, VOR RWY 24, Amdt 17A, CANCELLED

Chester, CT, Chester, VOR-A, Amdt 4A, CANCELLED

St Augustine, FL, Northeast Florida Rgnl, VOR RWY 13, Orig-E, CANCELLED

Coeur D'Alene, ID, Coeur D'Alene—Pappy Boyington Field, VOR/DME RWY 2, Amdt 2C, CANCELLED

Knox, IN, Starke County, VOR RWY 18, Amdt 2, CANCELLED

La Porte, IN, La Porte Muni, VOR-A, Amdt 7B, CANCELLED

Plymouth, IN, Plymouth Muni, VOR RWY 10, Amdt 12A, CANCELLED

De Quincy, LA, De Quincy Industrial Airpark, VOR/DME RWY 34, Amdt 3, CANCELLED

Jennings, LA, Jennings, VOR/DME RWY 8, Amdt 1A, CANCELLED

Boston, MA, General Edward Lawrence Logan Intl, ILS OR LOC RWY 22L, Amdt 8D

Montague, MA, Turners Falls, VOR-A, Amdt 4A, CANCELLED

Southbridge, MA, Southbridge Muni, VOR/DME-B, Amdt 9, CANCELLED

Auburn/Lewiston, ME, Auburn/Lewiston Muni, VOR/DME-A, Amdt 1A, CANCELLED

Caribou, ME, Caribou Muni, VOR-A, Amdt 11A, CANCELLED

Dowagiac, MI, Dowagiac Muni, VOR-A, Amdt 10, CANCELLED

Rochester, MN, Rochester Intl, VOR RWY 2, Amdt 17B, CANCELLED

Rochester, MN, Rochester Intl, VOR RWY 20, Amdt 14B, CANCELLED

Holly Springs, MS, Holly Springs-Marshall County, VOR RWY 18, Amdt 7, CANCELLED

Tunica, MS, Tunica Muni, VOR-A, Orig-A, CANCELLED

Billings, MT, Billings Logan Intl, VOR-A, Amdt 2A, CANCELLED

West Yellowstone, MT, Yellowstone, NDB RWY 1, Amdt 4A, CANCELLED

Asheboro, NC, Asheboro Muni, VOR-A, Amdt 3A, CANCELLED

Jacksonville, NC, Albert J Ellis, NDB RWY 5, Amdt 8D, CANCELLED

Lexington, NC, Davidson County, VOR/DME RWY 24, Orig-A, CANCELLED

Liberty, NC, Causey, VOR RWY 2, Amdt 5A, CANCELLED

Oxford, NC, Henderson-Oxford, NDB RWY 6, Amdt 3A, CANCELLED

Raleigh/Durham, NC, Raleigh-Durham Intl, VOR RWY 32, Amdt 3E, CANCELLED

Smithfield, NC, Johnston Regional, NDB RWY 3, Amdt 2, CANCELLED

Winston Salem, NC, Smith Reynolds, VOR RWY 15, Amdt 1D, CANCELLED

Grant, NE, Grant Muni, NDB RWY 15, Amdt 3B, CANCELLED

Potsdam, NY, Potsdam Muni/Damon Fld/, NDB RWY 24, Amdt 5B, CANCELLED

Corvallis, OR, Corvallis Muni, VOR RWY 35, Amdt 12, CANCELLED

Eugene, OR, Mahlon Sweet Field, VOR-A, Amdt 7B, CANCELLED

Eugene, OR, Mahlon Sweet Field, VOR OR TACAN RWY 16R, Amdt 5D, CANCELLED

Newport, OR, Newport Muni, VOR RWY 16, Amdt 9B, CANCELLED

Newport, OR, Newport Muni, VOR RWY 34, Amdt 2A, CANCELLED

North Bend, OR, Southwest Oregon Rgnl, VOR RWY 5, Amdt 11A, CANCELLED

North Bend, OR, Southwest Oregon Rgnl, VOR-A, Amdt 6A, CANCELLED

Redmond, OR, Roberts Field, VOR/DME RWY 23, Amdt 4, CANCELLED

Allentown, PA, Allentown Queen City Muni, VOR-B, Amdt 8C, CANCELLED

East Stroudsburg, PA, Stroudsburg-Pocono, VOR/DME-A, Amdt 6A, CANCELLED

Greenville, SC, Greenville Downtown, NDB RWY 1, Amdt 22D, CANCELLED

Union, SC, Union County, Troy Shelton Field, NDB RWY 5, Orig-C, CANCELLED

Rogersville, TN, Hawkins County, NDB RWY 7, Amdt 3, CANCELLED

Smyrna, TN, Smyrna, VOR/DME RWY 14, Amdt 7C, CANCELLED

Smyrna, TN, Smyrna, VOR/DME RWY 32, Amdt 13C, CANCELLED

Amarillo, TX, Rick Husband Amarillo Intl, NDB RWY 4, Amdt 17, CANCELLED

Amarillo, TX, Tradewind, NDB-A, Amdt 14B, CANCELLED

Cleveland, TX, Cleveland Muni, VOR-A, Amdt 4D, CANCELLED

Panhandle, TX, Panhandle-Carson County, VOR-A, Orig-B, CANCELLED

Pecos, TX, Pecos Muni, VOR RWY 14, Amdt 7C, CANCELLED

Van Horn, TX, Culberson County, NDB RWY 21, Amdt 2C, CANCELLED

Barre/Montpelier, VT, Edward F Knapp State, VOR RWY 35, Amdt 4A, CANCELLED

Watertown, WI, Watertown Muni, VOR RWY 29, Orig-C, CANCELLED

Buckhannon, WV, Upshur County Rgnl, VOR-A, Amdt 1B, CANCELLED

Fairmont, WV, Fairmont Muni-Frankman Field, VOR-A, Amdt 2, CANCELLED

Effective 10 September 2020

Monroeville, AL, Monroe County Aeroplex, VOR RWY 3, Amdt 10D, CANCELLED

Monroeville, AL, Monroe County Aeroplex, VOR RWY 21, Amdt 10C, CANCELLED

Camden, AR, Harrell Field, RNAV (GPS) RWY 19, Amdt 1B

Woodland, CA, Watts-Woodland, VOR/DME-A, Amdt 5, CANCELLED

Atlanta, GA, Hartsfield-Jackson Atlanta Intl, Takeoff Minimums and Obstacle DP, Amdt 8

Toccoa, GA, Toccoa RG Letourneau Field, VOR RWY 21, Amdt 14, CANCELLED

Toccoa, GA, Toccoa RG Letourneau Field, VOR/DME RWY 3, Amdt 3, CANCELLED

Lihue, HI, Lihue, VOR-A, Amdt 4, CANCELLED

Kankakee, IL, Greater Kankakee, VOR RWY 4, Amdt 6C, CANCELLED

Kankakee, IL, Greater Kankakee, VOR RWY 22, Amdt 7C, CANCELLED

Harper, KS, Harper Muni, Takeoff Minimums and Obstacle DP, Amdt 1

Rangeley, ME, Rangeley Lake, NDB-B, Amdt 1, CANCELLED

Rangeley, ME, Rangeley Lake, RNAV (GPS)-C, Amdt 1

Aurora, MO, Jerry Sumners Sr Aurora Muni, VOR/DME-A, Amdt 4A, CANCELLED

Superior, NE, Superior Muni, VOR/DME-A, Amdt 2, CANCELLED

Cortland, NY, Cortland County-Chase Field, VOR-A, Orig

Cortland, NY, Cortland County-Chase Field, VOR OR GPS-A, Orig-B, CANCELLED

Middletown, NY, Randall, VOR RWY 8, Amdt 7B, CANCELLED

New York, NY, John F Kennedy Intl, RNAV (GPS) X RWY 22L, Orig

Cadiz, OH, Harrison County, Takeoff Minimums and Obstacle DP, Amdt 4

Coshocton, OH, Richard Downing, RNAV (GPS) RWY 4, Orig

Coshocton, OH, Richard Downing, VOR-A, Amdt 10, CANCELLED

Middletown, OH, Middletown Regional/Hook Field, NDB RWY 23, Amdt 9C, CANCELLED

Middletown, OH, Middletown Regional/Hook Field, NDB-A, Amdt 3A, CANCELLED

Toledo, OH, Eugene F Kranz Toledo Express, ILS Z OR LOC Z RWY 7, Amdt 29A

Toledo, OH, Eugene F Kranz Toledo Express, RADAR-1, Amdt 19D

Wadsworth, OH, Wadsworth Muni, VOR-A, Amdt 2A, CANCELLED

Oklahoma City, OK, Will Rogers World, RNAV (GPS) Y RWY 17R, Amdt 6

Redmond, OR, Roberts Field, RNAV (RNP) Z RWY 5, Amdt 2A

Darlington, SC, Darlington County Jetport, NDB RWY 23, Amdt 1A, CANCELLED

Lebanon, TN, Lebanon Muni, VOR/DME-A, Amdt 10A, CANCELLED

Dallas-Fort Worth, TX, Dallas-Fort Worth Intl, RNAV (RNP) Z RWY 13R, Amdt 2

Hereford, TX, Hereford Muni, NDB RWY 20, Amdt 2B, CANCELLED

Jacksonville, TX, Cherokee County, VOR RWY 14, Amdt 4B

Mineola, TX, Mineola Wisener Field, RNAV (GPS)-A, Orig

Mineola, TX, Mineola Wisener Field, VOR-A, Amdt 6C, CANCELLED

Winnsboro, TX, Winnsboro Muni, RNAV (GPS)-A, Orig

Winnsboro, TX, Winnsboro Muni, VOR-A, Amdt 4A, CANCELLED

Price, UT, Carbon County Rgnl/Buck Davis Field, VOR RWY 1, Amdt 1A, CANCELLED

Danville, VA, Danville Rgnl, ILS OR LOC RWY 2, Amdt 5

Danville, VA, Danville Rgnl, RNAV (GPS) RWY 2, Amdt 1

Danville, VA, Danville Rgnl, RNAV (GPS) RWY 31, Amdt 1

Danville, VA, Danville Rgnl, VOR RWY 20, Amdt 2A, CANCELLED

Milton, WV, Ona Airpark, RNAV (GPS)-A, Orig-B

Wheeling, WV, Wheeling Ohio Co, RNAV (GPS) RWY 16, Amdt 1A

[FR Doc. 2020-15880 Filed 7-22-20; 8:45 am]

BILLING CODE 4910-13-P